Proclamation 10272 of September 30, 2021

National Youth Justice Action Month, 2021

By the President of the United States of America

A Proclamation

I have often said that America's young people are the kite strings that hold our national ambitions aloft—they carry the possibilities of our country and the sacred promise of a democracy where every one of us is treated equally and entitled to equal justice under the law. However, far too many of our young people are effectively excluded from participating in our democracy, having been sidelined by unnecessary encounters with the justice system. They deserve a second chance.

During National Youth Justice Action Month, I call upon States and communities to join me in seeking justice for our youth and modernizing our juvenile justice system, a system that should allow young people to build their lives and grow with freedom and dignity.

Long-standing inequities in our society—including in our juvenile and criminal justice systems—continue to disproportionately burden people of color and people with disabilities. Nationwide, Black youth are more than four times as likely as their white peers to be held in juvenile facilities, and they come into contact with both the juvenile justice and the child welfare systems at far higher rates. Additionally, one-third of young people in juvenile justice facilities have a disability, including many with emotional distress and learning disabilities. To deliver equal justice and equal dignity to all people, it is imperative that we root out racial inequities and other forms of discrimination from these systems.

Although youth arrests are at their lowest levels in decades, each arrest can create a ripple effect of heightened risks and negative consequences for young people. Once in the system, young people may face abusive treatment and dangerous conditions, including excessive use of restraint, guard-instigated fights, and sexual assault. Adverse environments and lack of support make it difficult for young people who enter the carceral system to lead healthy, productive lives upon exiting.

To give all of our young people a chance to live up to their full potential, we need to shift our approach from a default stance of incarceration to one of prevention—a strategy that recognizes that children's developmental stages and needs are starkly different from those of adults. Addressing racial disparities in school discipline and supporting proven early intervention efforts like afterschool and mentoring programs are simple steps we can take to help all young people find a sense of purpose and contribute to their communities. Many States are making a greater effort to keep teenagers under the jurisdiction of juvenile courts, which take their developmental needs into account and are better equipped to support their rehabilitation than systems built for adults.

In my Fiscal Year 2022 budget, I proposed an $800 million investment to more than double our current funding for juvenile justice and youth reentry programs that protect children and help young people get the services they need to get back on their feet. This includes incentives for States and communities that introduce reforms to reduce youth incarceration—including repurposing juvenile detention facilities to focus more on youth development. It also includes resources to develop research-based solutions to steer kids away from detention and toward more positive alternatives. Through grants provided by the Office of Juvenile Justice and Delinquency Prevention at the Department of Justice, we are giving young people access to high-quality legal representation and resources to help them better manage the consequences of their contact with the system. We will ensure that young people in the juvenile justice system receive the counsel they are entitled to and will work to address the disproportionately high enforcement directed against young people of color.

Moreover, my Administration is working to ensure that all young people have the support they need to avoid entering the justice system in the first place. I have proposed $1 billion for a new School-Based Health Professionals grant program to help double the number of counselors, nurses, social workers, and other health professionals in our schools. In addition, I have proposed $443 million for Full-Service Community Schools, which would provide comprehensive wrap-around services to students and their families. Programs like these help ensure that more young people grow up in supportive environments and have what they need to reach their full potential.

It is the responsibility of all of us to support America's youth and ensure that they are in a position to thrive in every community. By shifting our focus from incarceration to prevention, we can bring about a brighter future for our young people and our country as a whole. Together, we can fulfill the promise of an America that is just and equitable for all.

NOW, THEREFORE, I, JOSEPH R. BIDEN JR., President of the United States of America, by virtue of the authority vested in me by the Constitution and the laws of the United States, do hereby proclaim October 2021 as National Youth Justice Action Month. I call upon all Americans to observe this month by taking action to support our youth and by participating in appropriate ceremonies, activities, and programs in their communities.

IN WITNESS WHEREOF, I have hereunto set my hand this thirtieth day of September, in the year of our Lord two thousand twenty-one, and of the Independence of the United States of America the two hundred and forty-sixth.

[FR Doc. 2021-21896

Filed 10-4-21; 11:15 am]

Billing code 3395-F2-P